DEPARTMENT OF THE INTERIOR

Fish and Wildlife Service

[FWS-R4-R-2011-N262; FXRS12650400000S3-123-FF04R02000]

Final Land Protection Plan and Final Environmental Assessment for Everglades Headwaters National Wildlife Refuge and Conservation Area

AGENCY: Fish and Wildlife Service, Interior.

ACTION: Notice of availability.

SUMMARY: We, the Fish and Wildlife Service (Service), announce the availability of our Final Land Protection Plan (LPP) and Final Environmental Assessment (EA) for the recently established Everglades Headwaters National Wildlife Refuge (NWR) and Conservation Area in Polk, Osceola, Highlands, and Okeechobee Counties, in central and south Florida. The LPP and EA were prepared with input from Federal, State, and local agencies; Native American tribal nations; various non-governmental organizations; and the public. We established the refuge and conservation area to support a connected conservation landscape; to provide quality habitats for native wildlife diversity and at-risk species; to enhance water quality, quantity, and storage; and to provide opportunities for wildlife-dependent recreation.

ADDRESSES: Copies of the LPP and EA are available on CD or in hard copy, and you may obtain a copy by writing to: Mr. Charlie Pelizza, Refuge Manager, Pelican Island National Wildlife Refuge, 4055 Wildlife Way, Vero Beach, FL 32963. Alternatively, you may download the document from our Internet Site: http://www.fws.gov/southeast/evergladesheadwaters.

FOR FURTHER INFORMATION CONTACT: Ms. Cheri M. Ehrhardt, Natural Resource Planner, at 321/861-2368 (telephone), or Mr. Charlie Pelizza, Refuge Manager, at 772/581-5557, extension 1 (telephone).

SUPPLEMENTARY INFORMATION: In developing the LPP for the Everglades Headwaters NWR and Conservation Area, we evaluated three alternatives with different approaches to conservation within the Kissimmee River Basin landscape.

Alternative A—No Refuge and No Conservation Area (No Action Alternative)

Alternative A would represent no change from current conservation in this landscape. In this alternative we would not create a new refuge, no designated acquisition boundary would be developed, and no conservation area would be created. Habitat protection and management would continue by existing organizations and government programs. The landscape within the Study Area boundary contains approximately 421,000 acres of conservation lands protected by agricultural easements; private conservation organizations; and State, Federal, and municipal ownership and management. We would not pursue new opportunities for refuge-based wildlife-dependent public uses, partnerships, or scientific research.

Alternative B—Refuge Only Approach

This alternative would propose an acquisition boundary of up to 50,000 acres containing portions of identified priority habitats; would focus the bulk of the refuge within mostly contiguous areas; and would complement existing State, Federal, and municipal conservation within this landscape. We would use a suite of conservation tools to protect land, including fee-title acquisitions and conservation easements. This alternative would protect important wildlife habitat within the landscape, serving both common and rare wildlife species. It would offer opportunities for wildlife management, compatible wildlife-dependent public uses, and new refuge-based partnerships and scientific research. Public use opportunities would include hunting, fishing, wildlife observation, wildlife photography, and environmental education and interpretation.

Alternative C—Conservation Partnership Approach (Preferred Alternative)

Alternative C is our Preferred Action; the alternative to be used for implementation. Alternative C protects 150,000 acres, with up to 100,000 acres conserved through conservation easements or other less-than-fee-title methods and up to 50,000 acres conserved through fee-title and less-than-fee-title means. This alternative is considered to be the most effective management action for serving the outlined vision, purposes, and goals to enhance conservation in this Kissimmee River Basin landscape. It will conserve up to 150,000 acres containing portions of priority habitats. To best complement existing State, Federal, and municipal conservation within this landscape, we identified: (1) A Conservation Focal Area of approximately 130,000 acres, within which we will have the authority to acquire up to 50,000 acres for the refuge, and (2) a Conservation Partnership Area, within which we will have the authority to acquire less-than-fee-title interest of up to 100,000 acres as a Conservation Area.

The Everglades Headwaters NWR and Conservation Area will help to protect and restore one of the great grassland and savanna landscapes of eastern North America, conserving one of the nation's prime areas of biological diversity. It will also help to address the threats from habitat fragmentation and urban development, altered ecological processes, and impacts from global climate change. We will work with willing landowners to create a 100,000-acre Conservation Area through conservation easements or other less-than-fee-title means, and a 50,000-acre national wildlife refuge.

The authorities which established the Everglades Headwaters NWR and Conservation Area are the National Wildlife Refuge System Administration Act [16 U.S.C. 668dd(a)(2)], Endangered Species Act (16 U.S.C. 1534), Emergency Wetlands Resources Act [16 U.S.C. 3901(b), 100 Stat. 3583], Migratory Bird Conservation Act (16 U.S.C. 715d), Fish and Wildlife Act [16 U.S.C. 742f(a)(4)], and Refuge Recreation Act [16 U.S.C. 460k-460k-4].

Working with conservation land managers across this landscape, we will: (1) Manage the refuge and work with the landowners participating in the conservation area to support a more connected and functional conservation landscape that will provide effective habitat connections between existing conservation areas and allow habitats and species to shift in response to urban development pressures and global climate change; (2) provide a wide range of quality Kissimmee River Basin habitats to support migratory birds, Federal- and State-listed species, State-designated species of special concern, and native wildlife diversity; (3) contribute to water quality, water quantity, and water storage capacity of the upper Everglades watershed, to complement Everglades restoration goals and objectives and water quality and supply for central and south Florida; and (4) provide opportunities for hunting, fishing, wildlife observation, wildlife photography, and environmental education and interpretation, while increasing knowledge of and support for conservation of the important grassland and savanna landscape of the headwaters of the Everglades.

Several uses were evaluated in the interim compatibility determinations and determined to be compatible for the refuge. These uses include hunting, fishing, environmental education and interpretation, wildlife observation and photography, research, off-road vehicle use (on designated roads and trails in support of hunting and research), camping, hiking, horseback riding, bicycling, and grazing. We are working with the Florida Fish and Wildlife Conservation Commission to establish a memorandum of understanding to create a State wildlife management area for hunting on properties acquired for the refuge.

On September 8, 2011, we published a Federal Register notice (76 FR 55699) announcing the proposed establishment of the Everglades Headwaters National Wildlife Refuge and Conservation Area, and the release for public review and comment of the Draft Land Protection Plan and Draft Environmental Assessment in accordance with National Environmental Policy Act (40 CFR 1506.6 (b)) requirements. On October 26, 2011, we published a Federal Register notice (76 FR 66321) announcing the extension of the comment deadline to November 25, 2011.

Based on the documentation in the LPP and EA, we signed a Finding of No Significant Impact and subsequently approved the establishment of the Everglades Headwaters NWR and Conservation Area. Interim compatibility determinations and a Conceptual Management Plan were released with both the draft and final documents. The Conceptual Management Plan will serve as an interim management plan until a Comprehensive Conservation Plan and/or appropriate step-down management plans have been developed.

Authority

This notice is published under the authority of the National Wildlife Refuge System Improvement Act of 1997, Public Law 105-57.

Dated: January 10, 2012.
Mark J. Musaus,
Acting Regional Director.

[FR Doc. 2012-6124 Filed 3-13-12; 8:45 am]

BILLING CODE 4310-55-P